DEPARTMENT OF COMMERCE

International Trade Administration

[C-570-968]

Aluminum Extrusions From the People's Republic of China: Preliminary Results of Countervailing Duty Administrative Review and Intent to Rescind, in Part; 2018

AGENCY: Enforcement and Compliance, International Trade Administration, Department of Commerce.

SUMMARY: The Department of Commerce (Commerce) preliminarily determines that countervailable subsidies have been provided to producers and exporters of aluminum extrusions from the People's Republic of China (China) for the period of review (POR) January 1, 2018 through December 31, 2018. Interested parties are invited to comment on these preliminary results.

DATES: Applicable August 5, 2020.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Background

Commerce published the notice of initiation of this administrative review on July 15, 2019, covering 257 companies, based on requests from the Aluminum Extrusions Fair Trade Committee (petitioner) and Endura Products Inc. (Endura).¹ On October 15, 2019, the petitioner and Endura withdrew their requests for review for all but the following nine companies: (1) Activa International Inc. (Activa); (2) Changzhou Tenglong Auto Parts Co. Ltd. (Changzhou Tenglong); (3) CRRC Changzhou Auto Parts Co. Ltd. (CRRC); (4) Dongguan Aoda Aluminum Co. Ltd. (Dongguan Aoda); (5) Guangdong Xingfa Aluminum Co., Ltd. (Guangdong Xingfa); (6) Precision Metal Works Ltd. (Precision Metal); (7) Shenyang Yuanda Aluminum Industry Engineering Co. Ltd. (Shenyang Yuanda); (8) Summit Heat Sinks Metal Co, Ltd. (Summit); and (9) Wenzhou Yongtai Electric Co. Ltd. (Wenzhou Yongtai).² Between January 27, 2020 and February 6, 2020, Commerce extended the deadline for the preliminary results.³ On April 24, 2020, Commerce tolled all deadlines in administrative reviews by 50 days, thereby extending the deadline for these results until July 20, 2020.⁴

¹ See Initiation of Antidumping and Countervailing Duty Administrative Reviews, 84 FR 33739 (July 15, 2019) (Notice of Initiation); and Initiation of Antidumping and Countervailing Duty Administrative Reviews, 84 FR 47242 (September 9, 2019), which contains corrections to certain company names published in the July 15, 2019 Notice of Initiation (collectively, Initiation Notice).

² See Petitioner and Endura's Letter, “Aluminum Extrusions from the People's Republic of China: Partial Withdrawal of Request for Administrative Review,” dated October 15, 2019 (Petitioner and Endura Withdrawal Request).

³ See Memoranda, “Aluminum Extrusions from the People's Republic of China: Extension of Deadline for Preliminary Results of Countervailing Duty Administrative Review,” dated January 27, 2020; and “Aluminum Extrusions from the People's Republic of China: Extension of Deadline for Preliminary Results of Countervailing Duty Administrative Review; 2018,” dated February 6, 2020.

⁴ See Memorandum, “Tolling of Deadlines for Antidumping and Countervailing Duty Administrative Reviews in Response to Operational Adjustments Due to COVID-19,” dated April 24, 2020. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005). Because the 50-day extension would result in the signature date being on a weekend, the deadline moves to the next business day, Monday, July 20, 2020.

For a complete description of the events that followed the initiation of this review, see the Preliminary Decision Memorandum, which is dated concurrently with, and hereby adopted by, this notice.⁵ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov; this memorandum is available to all parties in the Central Records Unit, room B8024 of the main Department of Commerce building. In addition, a complete version of the Preliminary Decision Memorandum can be accessed directly at http://enforcement.trade.gov/frn/. The signed and electronic versions of the Preliminary Decision Memorandum are identical in content.

⁵ See Memorandum, “Decision Memorandum for the Preliminary Results of Countervailing Duty Administrative Review and Intent to Rescind, in Part; 2018,” dated concurrently with, and hereby adopted by, this notice (Preliminary Decision Memorandum).

Scope of the Order

The merchandise covered by the order is aluminum extrusions which are shapes and forms, produced by an extrusion process, made from aluminum alloys having metallic elements corresponding to the alloy series designations published by the Aluminum Association commencing with the numbers 1, 3, and 6 (or proprietary equivalents or other certifying body equivalents). For a complete description of the scope of the order see the Preliminary Decision Memorandum.

Imports of the subject merchandise are provided for under the following categories of the Harmonized Tariff Schedule of the United States (HTSUS): 7604.21.0010, 7604.21.0090, 7604.29.1010, 7604.29.1090, 7606.12.3091, 7604.29.3060; 7604.29.3090; 7604.29.5050; 7604.29.5090; 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this order is dispositive.⁶

⁶ See Preliminary Decision Memorandum for a complete description of the scope of the order.

Methodology

Commerce is conducting this review in accordance with section 751(a)(1)(A) of the Tariff Act of 1930, as amended (the Act). For purposes of this review, Commerce preliminarily finds that all programs previously countervailed in prior segments of this proceeding, remain countervailable—that is, they provide a financial contribution within the meaning of sections 771(5)(B)(i) and (D) of the Act, confer a benefit within the meaning of section 771(5)(B) of the Act, and are specific within the meaning of 771(5A) of the Act.

For a full description of the methodology underlying our preliminary conclusions, including our reliance on adverse facts available pursuant to sections 776(a) and (b) of the Act, see the Preliminary Decision Memorandum. As explained in the Preliminary Decision Memorandum, Commerce relied on adverse facts available because the Government of China (GOC) and seven of the nine companies that remain under review (i.e., Activa, CRRC, Guangdong Xingfa, Precision Metal, Shenyang Yuanda, Summit, Wenzhou Yongtai) did not act to the best of their ability in responding to Commerce's requests for information, and consequently, we have drawn an adverse inference, where appropriate, in selecting from among the facts otherwise available.⁷ For further information, see “Use of Facts Otherwise Available and Adverse Inferences” in the Preliminary Decision Memorandum.

⁷ See sections 776(a) and (b) of the Act.

For the other two companies (i.e., Changzhou Tenglong and Dongguan Aoda), we preliminarily assigned a rate based on the average of the most recently determined rates in a prior segment of this proceeding that are not zero, de minimis, or based entirely on facts available.⁸ For further information, see “Non-Selected Company Rates” in the Preliminary Decision Memorandum.

⁸ See Aluminum Extrusions from the People's Republic of China: Final Results and Partial Rescission of Countervailing Duty Administrative Review; 2014, 81 FR 92778 (December 20, 2016).

Intent to Rescind Review, In Part

For those companies named in the Initiation Notice for which all review requests have been timely withdrawn,⁹ we intend to rescind this administrative review in accordance with 19 CFR 351.213(d)(1). These companies are listed at Appendix II to this notice. For these companies, Commerce intends to assess duties at rates equal to the cash deposits of estimated countervailing duties required at the time of entry, or withdrawn from warehouse, for consumption, during the POR, in accordance with 19 CFR 351.212(c)(2).

⁹ See Petitioner and Endura Withdrawal Request.

Preliminary Results

Commerce preliminarily determines that the following estimated countervailable subsidy rates exist: ¹⁰

¹⁰ See Preliminary Decision Memorandum at “Use of Adverse Facts Available” and “Ad Valorem Rate for Non-Cooperative Companies Under Review.”

Company | Subsidy rate ad valorem (percent)
Activa International Inc | 242.15
Changzhou Tenglong Auto Parts Co. Ltd | 16.08
CRRC Changzhou Auto Parts Co. Ltd | 242.15
Dongguan Aoda Aluminum Co. Ltd | 16.08
Guangdong Xingfa Aluminum Co., Ltd | 242.15
Precision Metal Works Ltd | 242.15
Shenyang Yuanda Aluminum Industry Engineering Co. Ltd | 242.15
Summit Heat Sinks Metal Co, Ltd | 242.15
Wenzhou Yongtai Electric Co. Ltd | 242.15

Assessment Rates

In accordance with 19 CFR 351.221(b)(4)(i), we preliminarily assigned subsidy rates in the amounts shown above for the producer/exporters shown above. Upon completion of the administrative review, consistent with section 751(a)(1) of the Act and 19 CFR 351.212(b)(2), Commerce shall determine, and U.S. Customs and Border Protection (CBP) shall assess, countervailing duties on all appropriate entries covered by this review. We intend to issue assessment instructions to CBP 15 days after publication of the final results of this review.

Cash Deposit Requirements

Pursuant to section 751(a)(2)(C) of the Act, Commerce also intends upon publication of the final results to instruct CBP to collect cash deposits of estimated countervailing duties in the amounts indicated above for each company listed on shipments of subject merchandise entered, or withdrawn from warehouse, for consumption on or after the date of publication of the final results of this administrative review. For all non-reviewed firms, we intend to instruct CBP to collect cash deposits of estimated countervailing duties at the most recent company-specific or all-others rate applicable to the company, as appropriate. These cash deposit requirements, when imposed, shall remain in effect until further notice.

Disclosure

Normally, Commerce discloses to interested parties the calculations performed in connection with the preliminary results of review within five days of its public announcement, or if there is no public announcement, within five days of the date of publication of this notice in accordance with 19 CFR 351.224(b). However, we have assigned a net subsidy rate based on total adverse facts available to the seven companies for which requests for review were not withdrawn (each failed to submit a response to Commerce's quantity and value (Q&V) questionnaire), in accordance with section 776 of the Act. For information detailing the derivation of the adverse facts available (AFA) rate applied, see AFA Calculation Memorandum.¹¹

¹¹ See Memorandum, “Administrative Review of Countervailing Duty Order on Aluminum Extrusions from the People's Republic of China: AFA Calculation Memorandum for the 2018 Preliminary Results of Review,” dated February 11, 2020.

Public Comment

Interested parties may submit written case briefs no later than 30 days after the date of publication of the preliminary results. Rebuttal briefs, limited to issues raised in case briefs, may be submitted no later than seven days after the deadline date for case briefs.¹² Pursuant to 19 CFR 351.309(c)(2) and (d)(2), parties who submit case briefs or rebuttal briefs in this investigation are encouraged to submit with each argument: (1) A statement of the issue; (2) a brief summary of the argument; and (3) a table of authorities.¹³ Note that Commerce has temporarily modified certain of its requirements for serving documents containing business proprietary information, until further notice.¹⁴

¹² See 19 CFR 351.309; and 19 CFR 351.303 (for general filing requirements).

¹³ See 19 CFR 351.309(c)(2) and (d)(2).

¹⁴ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date. Issues addressed at the hearing will be limited to those raised in the briefs.¹⁵ All case and rebuttal briefs and hearing requests must be filed electronically and received successfully in their entirety through ACCESS by 5:00 p.m. Eastern Time on the due date.

¹⁵ See 19 CFR 351.310(c).

Unless the deadline is extended pursuant to section 751(a)(3)(A) of the Act, we intend to issue the final results of this administrative review, including the results of our analysis of the issues raised by the parties in their comments, within 120 days after issuance of these preliminary results.

Notification to Interested Parties

These preliminary results are issued and published pursuant to sections 751(a)(1) and 777(i)(1) of the Act and 19 CFR 351.221(b)(4).

Dated: July 20, 2020.
Jeffrey I. Kessler,
Assistant Secretary for Enforcement and Compliance.

Appendix I—List of Topics Discussed in the Preliminary Decision Memorandum

I. Summary

II. Background

III. Scope of the Order

IV. Intent to Rescind the Review, In Part

V. Non-Selected Company Rates

VI. Use of Adverse Facts Available

VII. Subsidy Programs Subject to Countervailing Duties

VIII. Ad Valorem Rate for Non-Cooperative Companies Under Review

IX. Recommendation

Appendix II—List of Companies for Which We Intend to Rescind this Administrative Review

1. Acro Import and Export Co.

2. Activa Leisure Inc.

3. Agilent Technologies Co. Ltd (China)

4. Allied Maker Limited

5. Alnan Aluminum Co., Ltd.

6. Alnan Aluminum Ltd.

7. Aluminicaste Fundicion de Mexico

8. AMC Ltd.

9. AMC Limited

10. Anji Chang Hong Chain Manufacturing

11. Anshan Zhongjda Industry Co., Ltd

12. Aoda Aluminium (Hong Kong) Co., Limited

13. Atlas Integrated Manufacturing Ltd.

14. Bath Fitter

15. Behr-Hella Thermocontrol (Shanghai) Co. Ltd.

16. Belton (Asia) Development Ltd.

17. Belton (Asia) Development Limited

18. Birchwoods (Lin'an) Leisure Products Co., Ltd.

19. Bolnar Hong Kong Ltd.

20. Bracalente Metal Products (Suzhou) Co., Ltd.

21. Brilliance General Equipment Co., Ltd.

22. AsiaAlum Group

23. Changshu Changshen Aluminum Products Co., Ltd.

24. Changshu Changsheng Aluminum Products Co., Ltd.

25. Changzhou Changzhen Evaporator Co., Ltd.

26. Changzhou Changzheng Evaporator Co., Ltd.

27. Changzhou Tenglong Auto Accessories Manufacturing Co. Ltd

28. Changzhou Tenglong Auto Parts Co Ltd

29. China Square

30. China Square Industrial Co.

31. China Square Industrial Ltd

32. China Zhongwang Holdings, Ltd.

33. Chiping One Stop Industrial & Trade Co., Ltd.

34. Classic & Contemporary Inc.

35. Clear Sky Inc.

36. Coclisa S.A. de C.V.

37. Cosco (J.M.) Aluminum Co., Ltd.

38. Cosco (JM) Aluminum Development Co. Ltd

39. Dalian Huacheng Aquatic Products

40. Dalian Liwang Trade Co., Ltd.

41. Danfoss Micro Channel Heat Exchanger (Jia Xing) Co., Ltd.

42. Daya Hardware Co Ltd

43. Dongguan Dazhan Metal Co., Ltd.

44. Dongguan Golden Tiger Hardware Industrial Co., Ltd.

45. Dongguang Aoda Aluminum Co., Ltd.

46. Dragonluxe Limited

47. Dynabright International Group (HK) Ltd.

48. Dynamic Technologies China

49. ETLA Technology (Wuxi) Co. Ltd

50. Ever Extend Ent. Ltd.

51. Fenghua Metal Product Factory

52. First Union Property Limited

53. FookShing Metal & Plastic Co. Ltd.

54. Foreign Trade Co. of Suzhou New & High-Tech Industrial Development Zone

55. Foshan City Nanhai Hongjia Aluminum Alloy Co., Ltd.

56. Foshan Golden Source Aluminum Products Co., Ltd.

57. Foshan Guangcheng Aluminium Co., Ltd

58. Foshan Jinlan Aluminum Co. Ltd.

59. Foshan JinLan Aluminum Co., Ltd.

60. Foshan JMA Aluminum Company Limited

61. Foshan Nanhai Niu Yuan Hardware Product Co., Ltd.

62. Foshan Shanshui Fenglu Aluminum Co., Ltd.

63. Foshan Shunde Aoneng Electrical Appliances Co., Ltd

64. Foshan Yong Li Jian Aluminum Co., Ltd.

65. Fujian Sanchuan Aluminum Co., Ltd.

66. Fukang Aluminum & Plastic Import and Export Co., Ltd.

67. Fuzhou Sunmodo New Energy Equipment

68. Gaotang Xinhai Economy & Trade Co., Ltd.

69. Genimex Shanghai, Ltd.

70. Global Hi-Tek Precision Co. Ltd

71. Global PMX Dongguan Co., Ltd.

72. Global Point Technology (Far East) Limited

73. Gold Mountain International Development, Ltd.

74. Golden Dragon Precise Copper Tube Group, Inc.

75. Gran Cabrio Capital Pte. Ltd.

76. Gree Electric Appliances

77. Green Line Hose & Fittings

78. GT88 Capital Pte. Ltd.

79. Guang Ya Aluminium Industries (HK) Ltd.

80. Guang Ya Aluminium Industries Co. Ltd.

81. Guang Ya Aluminum Industries Company Ltd

82. Guangcheng Aluminum Co., Ltd

83. Guangdong Hao Mei Aluminum Co., Ltd.

84. Guangdong Jianmei Aluminum Profile Company Limited

85. Guangdong JMA Aluminum Profile Factory (Group) Co., Ltd.

86. Guangdong Midea

87. Guangdong Midea Microwave and Electrical Appliances

88. Guangdong Nanhai Foodstuffs Imp. & Exp. Co., Ltd.

89. Guangdong Weiye Aluminum Factory Co., Ltd.

90. Guangdong Whirlpool Electrical Appliances Co., Ltd.

91. Guangdong Xin Wei Aluminum Products Co., Ltd.

92. Guangdong Yonglijian Aluminum Co., Ltd.

93. Guangdong Zhongya Aluminum Company Ltd.

94. Guangzhou Jangho Curtain Wall System Engineering Co., Ltd.

95. Guangzhou Mingcan Die-Casting Hardware Products Co., Ltd.

96. Hangzhou Xingyi Metal Products Co., Ltd.

97. Hanwood Enterprises Limited

98. Hanyung Alcoba Co., Ltd.

99. Hanyung Alcobis Co., Ltd.

100. Hanyung Metal (Suzhou) Co., Ltd.

101. Hao Mei Aluminum Co., Ltd.

102. Hao Mei Aluminum International Co., Ltd.

103. Hebei Xusen Wire Mesh Products Co., Ltd.

104. Henan New Kelong Electrical Appliances Co., Ltd.

105. Henan Zhongduo Aluminum Magnesium New Material Co, Ltd.

106. Hitachi High-Technologies (Shanghai) Co., Ltd.

107. Hong Kong Gree Electric Appliances Sales Limited

108. Hong Kong Modern Non-Ferrous Metal

109. Honsense Development Company

110. Hui Mei Gao Aluminum Foshan Co., Ltd.

111. Huixin Aluminum

112. IDEX Dinglee Technology (Tianjin) Co., Ltd.

113. IDEX Health

114. IDEX Technology Suzhou Co., Ltd.

115. Innovative Aluminum (Hong Kong) Limited

116. iSource Asia

117. Jackson Travel Products Co., Ltd.

118. Jangho Curtain Wall Hong Kong Ltd.

119. Jiangmen Jianghai Foreign Ent. Gen.

120. Jiangmen Jianghai District Foreign Economic Enterprise Corp. Ltd.

121. Jiangmen Qunxing Hardware Diecasting Co., Ltd.

122. Jiangsu Changfa Refrigeration Co.

123. Jiangyin Suncitygaylin

124. Jiangyin Trust International Inc.

125. Jiangyin Xinhong Doors and Windows Co., Ltd.

126. Jiaxing Jackson Travel Products Co., Ltd.

127. Jiaxing Taixin Metal Products Co., Ltd.

128. Jiuyan Co., Ltd.

129. JMA (HK) Company Limited

130. Johnson Precision Engineering (Suzhou) Co., Ltd.

131. Justhere Co., Ltd.

132. Kam Kiu Aluminum Products Sdn Bhd

133. Kanal Precision Aluminum Product Co., Ltd

134. Karlton Aluminum Company Ltd.

135. Kong Ah International Company Limited

136. Kromet International Inc.

137. Kromet Intl Inc

138. Kromet International

139. Kunshan Giant Light Metal Technology Co., Ltd.

140. Liaoning Zhong Da Industrial Aluminum Co., Ltd.

141. Liaoning Zhongwang Group Co., Ltd.

142. Liaoyang Zhongwang Aluminum Profile Co. Ltd.

143. Longkou Donghai Trade Co., Ltd.

144. MAAX Bath Inc.

145. MAHLE Holding (China) Co., Ltd

146. Metal Tech Co Ltd

147. Metaltek Group Co., Ltd.

148. Metaltek Metal Industry Co., Ltd.

149. Midea Air Conditioning Equipment Co., Ltd.

150. Midea Electric Trading Co., Pte Ltd

151. Midea International Training Co., Ltd.

152. Midea International Trading Co., Ltd.

153. Miland Luck Limited

154. Nanhai Textiles Import & Export Co., Ltd.

155. New Asia Aluminum & Stainless Steel Product Co., Ltd.

156. New Zhongya Aluminum Factory

157. Nidec Sankyo (Zhejang) Corporation

158. Nidec Sankyo Zhejiang Corporation

159. Nidec Sankyo Singapore Pte. Ltd.

160. Ningbo Coaster International Co., Ltd.

161. Ningbo Hi Tech Reliable Manufacturing Company

162. Ningbo Innopower Tengda Machinery

163. Ningbo Ivy Daily Commodity Co., Ltd.

164. Ningbo Yili Import and Export Co., Ltd.

165. North China Aluminum Co., Ltd.

166. North Fenghua Aluminum Ltd.

167. Northern States Metals

168. PanAsia Aluminum (China) Limited

169. PENCOM Dongguan China

170. Pengcheng Aluminum Enterprise Inc.

171. Permasteelisa Hong Kong Limited

172. Permasteelisa South China Factory

173. Pingguo Aluminum Company Limited

174. Pingguo Asia Aluminum Co., Ltd.

175. Popular Plastics Company Limited

176. Press Metal International Ltd.

177. Qingdao Sea Nova Building

178. Samuel, Son & Co., Ltd.

179. Sanchuan Aluminum Co., Ltd.

180. Sanhua (Hangzhou) Micro Channel Heat Exchanger Co., Ltd

181. Shandong Fukang Aluminum & Plastic Co. LTD

182. Shandong Huajian Aluminum Group

183. Shangdong Huasheng Pesticide Machinery Co.

184. Shangdong Nanshan Aluminum Co., Ltd.

185. Shanghai Automobile Air Conditioner Accessories Ltd.

186. Shanghai Automobile Air-Conditioner Accessories Co Ltd

187. Shanghai Canghai Aluminum Tube Packaging Co., Ltd

188. Shanghai Dofiberone Composites Co. Ltd.

189. Shanghai Dongsheng Metal

190. Shanghai Shen Hang Imp & Exp Co., Ltd.

191. Shanghai Tongtai Precise Aluminum Alloy Manufacturing Co. Ltd.

192. Shanghai Top-Ranking Aluminum Products Co., LTD

193. Shanghai Top-Ranking New Materials Co., Ltd.

194. Shenzhen Hudson Technology Development Co.

195. Shenzhen Jiuyuan Co., Ltd.

196. Sihui Shi Guo Yao Aluminum Co., Ltd.

197. Sincere Profit Limited

198. Skyline Exhibit Systems (Shanghai) Co. Ltd.

199. Southwest Aluminum (Group) Co., Ltd.

200. Springs Window Fashions De Victoria

201. Summit Plastics Nanjing Co. Ltd

202. Suzhou JRP Import & Export Co., Ltd.

203. Suzhou New Hongji Precision Part Co.

204. Tai-Ao Aluminum (Taishan) Co. Ltd.

205. Taishan City Kam Kiu Aluminium Extrusion Co., Ltd.

206. Taitoh Machinery Shanghai Co Ltd

207. Taizhou United Imp. & Exp. Co., Ltd.

208. tenKsolar (Shanghai) Co., Ltd.

209. Tianjin Ganglv Nonferrous Metal Materials Co., Ltd.

210. Tianjin Jinmao Import & Export Corp., Ltd.

211. Tianjin Ruxin Electric Heat Transmission Technology Co., Ltd.

212. Tianjin Xiandai Plastic & Aluminum Products Co., Ltd.

213. Tiazhou Lifeng Manufacturing Corporation

214. Taizhou Lifeng Manufacturing Co., Ltd.

215. Top-Wok Metal Co., Ltd.

216. Traffic Brick Network, LLC

217. Union Aluminum (SIP) Co.

218. Union Industry (Asia) Co., Ltd.

219. USA Worldwide Door Components (Pinghu) Co., Ltd.

220. Wenzhou Shengbo Decoration & Hardware

221. Whirlpool (Guangdong)

222. Whirlpool Canada L.P.

223. Whirlpool Microwave Products Development Ltd.

224. Wonjin Autoparts

225. Worldwide Door Components, Inc.

226. WTI Building Products, Ltd.

227. Wuxi Lutong Fiberglass Doors Co., Ltd,

228. Xin Wei Aluminum Co.

229. Xin Wei Aluminum Company Limited

230. Xinchang Yongqiang Air Conditioning Accessories Co., Ltd.

231. Xinya Aluminum & Stainless Steel Product Co., Ltd.

232. Yuyao Haoshen Import & Export

233. Yuyao Fanshun Import & Export Co., Ltd.

234. Zahoqing China Square Industry Limited

235. Zhaoqing China Square Industry Limited

236. Zhaoqing Asia Aluminum Factory Company Ltd.

237. Zhaoqing China Square Industrial Ltd.

238. Zhaoqing New Zhongya Aluminum Co., Ltd.

239. Zhejiang Anji Xinxiang Aluminum Co., Ltd.

240. Zhejiang Lilies Industrial and Commercial Co

241. Zhejiang Yili Automobile Air Condition Co., Ltd

242. Zhejiang Yongkang Listar Aluminum Industry Co., Ltd.

243. Zhejiang Zhengte Group Co., Ltd.

244. Zhenjiang Xinlong Group Co., Ltd.

245. Zhongshan Daya Hardware Co., Ltd.

246. Zhongshan Gold Mountain Aluminum Factory Ltd.

247. Zhongya Shaped Aluminum (HK) Holding Limited

248. Zhuhai Runxingtai Electrical Equipment Co., Ltd

[FR Doc. 2020-17071 Filed 8-4-20; 8:45 am]

BILLING CODE 3510-DS-P